DEPARTMENT OF JUSTICE

Notice of Lodging of Consent Decree; Pursuant to the Comprehensive Environmental Response, Compensation, and Liability Act

In accordance with Departmental policy, 28 CFR 50.7, notice is hereby given that a proposed consent decree in United States v. F.O.F. Inc., Civil Action No. 3:09-cv-5015, was lodged January 15, 2009, with the United States District Court for the Western District of Washington. Under this Consent Decree, the Settling Defendant is required by pay $250,000.00 in payment for Response Costs at or in connection with the Commencement Bay Nearshore/Tideflats Superfund Site in the City of Tacoma, Pierce County, Washington.

The Department of Justice will receive, for a period of thirty (30) days from the date of this publication, comments relating to the proposed consent decree. Comments should be addressed to the Assistant Attorney General, Environmental and Natural Resources Division, and either e-mailed to pubcomment-ees.enrd@usdoj.gov or mailed to P.O. Box 7611, U.S. Department of Justice, Washington, DC 20044-7611, and should refer to United States v. F.O.F. Inc., DOJ Ref. 90-11-2-726/5.

The proposed consent decree may be examined at the office of the United States Attorney, 700 Stewart Street, Suite 5220, Seattle, WA 98101-1271 and at U.S. EPA Region 10, 1200 Sixth Avenue, Seattle, WA 98101. During the comment period, the consent decree may be examined on the following Department of Justice Web site: http://www.usdoj.gov/enrd/Consent_Decrees.html. A copy of the consent decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $6.25 for United States v. F.O.F. Inc. (25 cents per page reproduction cost) payable to the U.S. Treasury.

Robert E. Maher, Jr.,
Assistant Section Chief, Environmental Enforcement Section.

[FR Doc. E9-2242 Filed 2-2-09; 8:45 am]

BILLING CODE 4410-15-P